SECURITIES AND EXCHANGE COMMISSION

Sunshine Act Meetings

TIME AND DATE: Notice is hereby given, pursuant to the provisions of the Government in Sunshine Act, Public Law 94-409, that the Securities and Exchange Commission Investor Advisory Committee will hold a meeting on Thursday, July 25, 2019 at 9:00 a.m. (ET).

PLACE: The meeting will be held in Multi-Purpose Room LL-006 at the Commission's headquarters, 100 F Street NE, Washington, DC 20549.

STATUS: This meeting will begin at 9:00 a.m. (ET) and will be open to the public. Seating will be on a first-come, first-served basis. Doors will open at 8:30 a.m. Visitors will be subject to security checks. The meeting will be webcast on the Commission's website at www.sec.gov.

MATTERS TO BE CONSIDERED: On July 3, 2019, the Commission issued notice of the Committee meeting (Release No. 33-10658), indicating that the meeting is open to the public (except during that portion of the meeting reserved for an administrative work session during lunch), and inviting the public to submit written comments to the Committee. This Sunshine Act notice is being issued because a quorum of the Commission may attend the meeting.

The agenda for the meeting includes: Welcome remarks; a discussion regarding regulation in areas with limited completion, a discussion regarding trends in investment research (which may include a recommendation from the Market Structure subcommittee); a discussion regarding the proxy process (which may include a recommendation from the Investor as Owner subcommittee); a presentation on the work of the Office of the Advocate for Small Business Capital Formation; a presentation on the work of the Office of Minority and Women Inclusion; subcommittee reports; and a nonpublic administrative work session during lunch.

CONTACT PERSON FOR MORE INFORMATION: For further information and to ascertain what, if any, matters have been added, deleted or postponed; please contact Vanessa A. Countryman from the Office of the Secretary at (202) 551-5400.

Dated: July 18, 2019.
Vanessa A. Countryman,
Secretary.

[FR Doc. 2019-15674 Filed 7-19-19; 11:15 am]

BILLING CODE 8011-01-P